DEPARTMENT OF TRANSPORTATION

Federal Aviation Administration

14 CFR Part 39

[Docket No. 2002-SW-09-AD; Amendment 39-12681; AD 2002-03-52]

RIN 2120-AA64

Airworthiness Directives; Eurocopter France Model AS350B, AS350BA, AS350B1, AS350B2, AS350B3, AS350C, AS350D, AS350D1, AS355E, AS355F, AS355F1, AS355F2, AS355N, and EC130 B4 Helicopters

AGENCY: Federal Aviation Administration, DOT.

ACTION: Final rule; request for comments.

SUMMARY: This document publishes in the Federal Register an amendment adopting Airworthiness Directive (AD) 2002-03-52, sent previously to all known U.S. owners and operators of Eurocopter France (ECF) helicopters by individual letters. This AD requires checking for a gap between the adhesive bead and the metal bushing bonded on each STARFLEX star arm end (arm end) and, if a gap is found, replacing the STARFLEX with an airworthy part. This AD is prompted by reports of bonding failure between the metal bushing and the arm end that led to severe vibrations resulting in several emergency landings. The actions specified in this AD are intended to detect bonding failure between the metal bushing and each arm end, severe lateral vibrations, and subsequent loss of control of the helicopter.

DATES: Effective April 4, 2002.

Comments for inclusion in the Rules Docket must be received on or before April 19, 2002.

ADDRESSES: Submit comments in triplicate to the Federal Aviation Administration (FAA), Office of the Regional Counsel, Southwest Region, Attention: Rules Docket No. 2002-SW-09-AD, 2601 Meacham Blvd., Room 663, Fort Worth, Texas 76137. You may also send comments electronically to the Rules Docket at the following address: 9-asw-adcomments@faa.gov.

FOR FURTHER INFORMATION CONTACT: Gary Roach, Aviation Safety Engineer, FAA, Rotorcraft Directorate, Rotorcraft Standards Staff, Fort Worth, Texas 76193-0111, telephone (817) 222-5130, fax (817) 222-5961.

SUPPLEMENTARY INFORMATION: On February 6, 2002, the FAA issued Emergency AD (EAD) 2002-02-51, which required checking for a gap between the adhesive bead and the metal bushing on each arm end and, if a gap was found, replacing the STARFLEX. After issuing that EAD, we discovered the inadvertent omission of a STAFFLEX part number (P/N) from the applicability. That omission created an undue economic burden to the owners and operators of a significant percentage of the affected helicopters. That omission could have also created confusion to the personnel checking this flight critical part because there are a number of different STARFLEX configurations installed on the affected model helicopters. This condition, if not corrected, could have resulted in failure of the operators to properly conduct the check, failure to detect a gap between the adhesive bead and the metal bushing on the arm end, severe lateral vibrations, and subsequent loss of control of the helicopter. Therefore, to eliminate any confusion, the FAA issued superseding EAD 2002-03-52 on February 8, 2002, which contains the same requirements as EAD 2002-02-51 but limits the applicability of this AD to those helicopters that have STARFLEX, P/N 350A31-1916-00, installed.

The Direction Generale De L'Aviation Civile (DGAC), the airworthiness authority for France, notified the FAA that an unsafe condition may exist on these helicopter models. The DGAC advises of several occurrences of rapid bonding failure of the metal bushing installed on the arm ends, severe vibrations, and some emergency landings.

ECF has issued Alert Telex Nos. 05.00.38, 05.00.37R1, and 05.A.001R1, dated November 13, 2001 (Telex). The Telex specifies checking for a gap between the adhesive bead and the metal bushing bonded on each arm end. ECF is currently analyzing modifications to this assembly. The DGAC classified this Telex as mandatory and issued AD Nos. 2001-557-086(A) R1, 2001-558-064(A) R1, and 2001-559-002(A) R1, all dated November 28, 2001, to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

This unsafe condition is likely to exist or develop on other helicopters of the same type designs registered in the United States. Therefore, the FAA issued Emergency AD 2002-03-52 to require, at specified intervals, checking for a gap between the adhesive bead and the metal bushing bonded on each of the arm ends and, if a gap is found, before further flight, replacing any STARFLEX with an airworthy part.

The short compliance time involved is required because the previously described critical unsafe condition can adversely affect the controllability or structural integrity of the helicopter. Therefore, checking for a gap between the adhesive bead and the metal bushing is required before each start of the engines and thereafter at intervals not to exceed 4 hours time-in-service, and this AD must be issued immediately.

An owner/operator (pilot) may perform the visual check required by paragraph (a) of this AD and must enter compliance with this AD into the helicopter maintenance records in accordance with 14 CFR 43.11 and 91.417(a)(2)(v). This AD allows a pilot to perform this check because it involves only a visual check for a gap between the adhesive bead and the metal bushing on each arm end and can be performed equally well by a pilot or a mechanic.

Since it was found that immediate corrective action was required, notice and opportunity for prior public comment thereon were impracticable and contrary to the public interest, and good cause existed to make the AD immediately effective by individual letters issued on February 8, 2002, to all known U.S. owners and operators of these helicopters. These conditions still exist, and the AD is hereby published in the Federal Register as an amendment to 14 CFR 39.13 to make it effective to all persons.

The FAA estimates that 30 helicopters will be affected by this AD, that it will take approximately 0.1 work hour to inspect the adhesive bead of the metal bushing bonded on each arm end, and that the average labor rate is $60 per work hour. Based on these figures, the total cost impact of the AD on U.S. operators is estimated to be $6 per helicopter and $180 for one inspection of the fleet. Assuming 10 additional inspections per week for all helicopters, the fleet cost per year will be $93,600.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2002-SW-09-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-03-52 Eurocopter France: Amendment 39-12681. Docket No. 2002-SW-09-AD. Supersedes Emergency AD 2002-02-51, Docket No. 2002-SW-02-AD.

Applicability: Model AS350B, AS350BA, AS350B1, AS350B2, AS350B3, AS350C, AS350D, AS350D1, AS355E, AS355F, AS355F1, AS355F2, AS355N, and EC130 B4 helicopters, with STARFLEX, part number 350A31-1916-00, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required before each start of the engines and thereafter at intervals not to exceed 4 hours time-in-service.

To detect bonding failure between the metal bushing and each STARFLEX star arm end (arm end), which could result in severe lateral vibrations and subsequent loss of control of the helicopter, accomplish the following:

(a) Check for a gap between the adhesive bead and the metal bushing bonded on each of the three arm ends.

Note 2: Alert Telex Nos. 05.00.38, 05.00.37 R1, and 05.A.001 R1, dated November 13, 2001, pertain to the subject of this AD.

(b) An owner/operator (pilot) may perform the visual check required by paragraph (a) of this AD and must enter compliance with this AD into the helicopter maintenance records in accordance with 14 CFR 43.11 and 91.417(a)(2)(v). This AD allows a pilot to perform this check because it involves only a visual check for a gap between the adhesive bead and the bushing on each arm end and can be performed equally well by a pilot or a mechanic.

(c) If you find a gap between the adhesive bead and the metal bushing, replace the STARFLEX with an airworthy part before further flight.

(d) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(e) Special flight permits will not be issued.

(f) This amendment becomes effective on April 4, 2002.

Note 4: The subject of this AD is addressed in Direction Generale De L'Aviation Civile (France) AD Nos. 2001-557-086(A) R1, 2001-558-064(A) R1, and 2001-559-002(A) R1, all dated November 28, 2001.

Issued in Fort Worth, Texas, on March 11, 2002.
David A. Downey,
Manager, Rotorcraft Directorate, Aircraft Certification Service.

[FR Doc. 02-6627 Filed 3-19-02; 8:45 am]

BILLING CODE 4910-13-U